DEPARTMENT OF TRANSPORTATION

Federal Aviation Administration

39th Meeting: RTCA Special Committee 206, Aeronautical Information and Meteorological Data Link Services

AGENCY: Federal Aviation Administration (FAA), U.S. Department of Transportation (DOT).

ACTION: Meeting Notice of RTCA Special Committee 206, Aeronautical Information and Meteorological Data Link Services.

SUMMARY: The FAA is issuing this notice to advise the public of the thirty-ninth meeting of the RTCA Special Committee 206, Aeronautical Information and Meteorological Data Link Services.

DATES: The meeting will be held December 8-12, 2014, 10:00 a.m.-5:00 p.m. on Monday (EST), 8:30 a.m.-5:00 p.m. Tuesday to Thursday and 8:30 a.m.-11:00 a.m. on Friday.

ADDRESSES: The meeting will be held at RTCA, 1150 18th St. NW., Suite 910, Washington, DC 20036.

FOR FURTHER INFORMATION CONTACT: The RTCA Secretariat, 1150 18th Street NW., Suite 910, Washington, DC 20036, or by telephone at (202) 330-0652/(202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of Special Committee 206. The agenda will include the following:

December 8th Monday 10:00 a.m.

• Opening Plenary

• Opening remarks and Attendees' introductions

• Review and approval of meeting agenda

• Approval of previous meeting minutes (Norman, OK)

• TOR changes

• Industry presentations

○ Systems Wide Information Management Program Status

○ Weather Technology in the Cockpit (WTIC) Concept of Operations

December 9th—10th Tuesday and Wednesday 8:30 a.m.

• Sub-Group meetings (Plenary if FIS-B MOPS has large number of comments and needs more time to resolve)

December 10th Wednesday 1:00 p.m.

• FAA AAtS Workshop

December 11th Thursday

• Plenary: FIS-B MOPS FRAC Review (start date if small number of comments)

• Sub-Group meetings (Plenary FIS-B MOPS FRAC Review, if needed)

December 12th Friday

Closing Plenary

• Sub-Groups' reports and Action item review

• Future meeting plans and dates

• Other business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 11, 2014.
Mohannad Dawoud,
Management Analyst, NextGen, Program Oversight and Administration, Federal Aviation Administration.

[FR Doc. 2014-27319 Filed 11-18-14; 8:45 am]

BILLING CODE 4910-13-P